DEPARTMENT OF THE INTERIOR

Fish and Wildlife Service

Notice of Availability of the Final Revised Recovery Plan for the Gila Trout (Oncorhynchus gilae)

AGENCY: Fish and Wildlife Service, Interior.

ACTION: Notice of document availability.

SUMMARY: The U.S. Fish and Wildlife Service (Service) announces the availability of the final revised Recovery Plan for the Gila trout (Oncorhynchus gilae). The Gila trout is native to relatively undisturbed high altitude mountain streams in Arizona and New Mexico. Historically, Gila trout occurred in the Verde and Agua Fria drainages, Arizona, and in the upper Gila drainage in New Mexico. Gila trout may also have been indigenous to Eagle Creek, Arizona, and some tributaries of the San Francisco River, New Mexico. Although formerly locally abundant, competition and hybridization with non-native trout, habitat degradation from improper livestock grazing and timber harvest practices, catastrophic forest fires, drought, and floods caused widespread declines. Recovery tasks include establishing additional populations of Gila trout; protecting existing populations and habitat; and continuing to obtain information needed to address conservation issues.

ADDRESSES: Persons wishing to receive the Final Revised Recovery Plan can obtain a copy from the U.S. Fish and Wildlife Service, New Mexico Ecological Services Field Office, 2105 Osuna NE., Albuquerque, New Mexico, 87113. The recovery plan will also be available through the Fish and Wildlife Region 2 Web site at: http://southwest.fws.gov/.

FOR FURTHER INFORMATION CONTACT: Field Office Supervisor, New Mexico Ecological Services Field Office, at the above address; telephone 505/346-2525, facsimile 505/346-2542.

SUPPLEMENTARY INFORMATION:

Background

Restoring an endangered or threatened animal or plant to the point where it is again a secure, self-sustaining member of its ecosystem is a primary goal of the Service's endangered species program. To help guide the recovery effort, the Service is working to prepare recovery plans for most of the listed species native to the United States. Recovery plans describe actions considered necessary for conservation of the species, establish criteria for downlisting or delisting them, and estimate time and cost for implementing the recovery measures needed.

The Endangered Species Act of 1973 (Act), as amended (16 U.S.C. 1531 et seq.) requires the development of recovery plans for listed species unless such a plan would not promote the conservation of a particular species. Section 4(f) of the Act, as amended in 1988, requires that public notice and an opportunity for public review and comment be provided during recovery plan development. The draft revised recovery plan was submitted for technical and agency review. Information presented during the public comment period has been considered in the preparation of this final recovery plan. We will forward substantive comments regarding recovery plan implementation to appropriate Federal or other entities so that they can take these comments into account during the course of implementing recovery actions.

The Gila trout was listed as endangered on March 11, 1967, under the Federal Endangered Species Preservation Act of 1966. Federal status of the fish as endangered was continued under the Endangered Species Act of 1973. The threats facing the survival and recovery of this species are competition and hybridization with non-native trout species (e.g., Oncorhynchus mykiss, Salmo trutta), improper forest management practices, improper grazing management practices, severe drought, catastrophic wildfires, and floods.

This recovery plan supersedes the recovery plan finalized for the species in 1993. The plan includes new scientific information about the species gathered since 1993 and provides objectives and actions needed to downlist then delist the species. Recovery activities designed to achieve these objectives include establishing additional populations of Gila trout; protecting existing populations and habitat; continuing to obtain information needed to address conservation issues; and continuing to provide information and coordinating recovery of this species. The recovery plan provides criteria for delisting and reclassification (i.e., from endangered to threatened).

Authority

The authority for this action is Section 4(f) of the Endangered Species Act, 16 U.S.C. 1533(f).

Dated: September 3, 2003.
Bryan Arroyo,
Acting Regional Director, Region 2.

[FR Doc. 03-22988 Filed 9-9-03; 8:45 am]

BILLING CODE 4310-55-P